DEPARTMENT OF ENERGY

Federal Energy Regulatory Commission

[Docket No. ER03-1039-001, et al.]

AmPro Energy Wholesale, Inc., et al.; Electric Rate and Corporate Filings

July 21, 2003.

The following filings have been made with the Commission. The filings are listed in ascending order within each docket classification.

1. AmPro Energy Wholesale, Inc.

[Docket No. ER03-1039-001].

Take notice that on July 16, 2003, AmPro Energy Wholesale, Inc., tendered for filing a revised Rate Schedule No. 1 amending their petition filed July 7, 2003 in Docket No. ER03-1039-000.

Comment Date: August 6, 2003.

2. Access Energy Cooperative

[Docket No. ER03-1078-000].

Take notice that on July 16, 2003, Access Energy Cooperative (AEC) tendered for filing its 2003 annual rate redetermination informational filing, pursuant to the Commission's Regulations, 18 CFR 35.13, and in accordance with Section 105 of its FERC Rate Schedule No. 1. AEC states that its filing is available for public inspection at its offices in Mt. Pleasant, Iowa.

AEC further states that copies of this filing have been served upon its transmission customer and the Iowa State Utilities Board.

Comment Date: August 6, 2003.

3. Aquila, Inc.

[Docket No. ER03-1079-000].

Take notice that on July 16, 2003, Aquila, Inc. on behalf of itself and as agent for its divisions Aquila Networks-MPS d/b/a Missouri Public Service, Aquila Networks-WPK d/b/a WestPlains Energy-Kansas, Aquila Networks-WPC d/b/a WestPlains Energy-Colorado and Aquila Networks-L&P d/b/a St. Joseph Light and Power (collectively Aquila) tendered for filing proposed changes in its FERC Electric Tariff Volumes 28 and 29. Aquila states that the proposed changes add a provision to the Aquila market-based power sales tariffs to comply with the settlement in Docket No. ER02-2170.

Comment Date: August 6, 2003.

4. Florida Power & Light Company

[Docket No. ER03-1080-000].

Take notice that on July 16, 2003, Florida Power & Light Company (FPL) filed with the Federal Energy Regulatory Commission Service Agreement No. 223 to FERC Electric Tariff, Second Revised Volume No. 6, which is an agreement to construct a control area interconnection between FPL and Seminole Electric Cooperative, Inc. (Seminole).

FPL states that a copy of this filing has been served on Seminole and the Florida Public Service Commission.

Comment Date: August 6, 2003.

5. Covanta Union, Inc.

[Docket No. ER03-1085-000].

Take notice that on July 16, 2003, Covanta Union, Inc., tendered for filing a Notice of Succession to reflect a name change from Ogden Martin Systems of Union, Inc., to Covanta Union, Inc.

Covanta Union, Inc., states that copies of the filing were served upon the Public Service Electric and Gas Company and on the PJM Interconnection, L.L.C.

Comment Date: August 6, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-19232 Filed 7-28-03; 8:45 am]

BILLING CODE 6717-01-P